FEDERAL RETIREMENT THRIFT INVESTMENT BOARD

Sunshine Act Meeting; Board Member Meeting

TIME AND DATE: April 25, 2016, 8:30 a.m. (In Person).

PLACE: 10th Floor Board Meeting Room, 77 K Street NE., Washington, DC 20002.

Agenda

Federal Retirement Thrift Investment Board Member Meeting, April 25, 2016, 8:30 a.m. (In-Person).

Open Session

1. Approval of the Minutes of the March 29, 2016 Board Member Meeting

2. Monthly Reports

(a) Participant Activity Report

(b) Legislative Report

3. Quarterly Reports

(a) Investment Policy

(b) Budget Review

(c) Audit Status

4. Annual Financial Audit—CLA

5. Planning and Prioritization

Closed Session

6. Security

Adjourn

CONTACT PERSON FOR MORE INFORMATION: Kimberly Weaver, Director, Office of External Affairs, (202) 942-1640.

Dated: April 14, 2016.
Megan Grumbine,
General Counsel, Federal Retirement Thrift Investment Board.

[FR Doc. 2016-08999 Filed 4-14-16; 4:15 pm]

BILLING CODE 6760-01-P